NATIONAL SCIENCE FOUNDATION

Notice of Permit Applications Received Under the Antarctic Conservation Act of 1978 (Pub. L. 95-541)

AGENCY: National Science Foundation.

ACTION: Notice of Permit Modification Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by June 24, 2011. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Description of Permit Modification Requested: The Foundation issued a permit (2009-013) to Dr. Robert Pitman on October 10, 2008. The issued permit allows the applicant access to satellite tag or attach suction cup tags and take skin biopsies from Killer whales, Minke whales and Humpback whales to study their movement patterns, diet preferences, and genetics.

The applicant requests a modification to his permit to add two additional whale species: 200 Blue whales and 200 Fin whales. In addition, the applicant wishes to revise his current takes to 400 Killer whales, 300 Humpback whales, and 50 Minke whales.

Location: Ross Sea and McMurdo Sound area and the Antarctic Peninsula regions.

Dates: October 1, 2011 to January 1, 2014.

Nadene G. Kennedy,
Permit Officer, Office of Polar Programs.

[FR Doc. 2011-12913 Filed 5-24-11; 8:45 am]

BILLING CODE 7555-01-P